DEPARTMENT OF ENERGY

Federal Energy Regulatory Commission

Combined Notice of Filings #1

Take notice that the Commission received the following electric rate filings:

Docket Numbers: ER18-56-001.

Applicants: Midcontinent Independent System Operator, Inc., Consumers Energy Company.

Description: Compliance filing: 2018-01-24_Compliance filing re Consumers depreciation rates to be effective 1/1/2018.

Filed Date: 1/24/18.

Accession Number: 20180124-5008.

Comments Due: 5 p.m. ET 2/14/18.

Docket Numbers: ER18-700-000.

Applicants: Midcontinent Independent System Operator, Inc.

Description: § 205(d) Rate Filing: 2018-01-23_SA 3006 Duke-Jordan Creek 1st Revised GIA (J515) to be effective 1/8/2018.

Filed Date: 1/23/18.

Accession Number: 20180123-5132.

Comments Due: 5 p.m. ET 2/13/18.

Docket Numbers: ER18-701-000.

Applicants: Fenton Power Partners I, LLC.

Description: § 205(d) Rate Filing: Fenton Notice of Non-Material Change in Status and MBR Tariff Revision to be effective 3/25/2018.

Filed Date: 1/23/18.

Accession Number: 20180123-5134.

Comments Due: 5 p.m. ET 2/13/18.

Docket Numbers: ER18-702-000.

Applicants: Hoosier Wind Project, LLC.

Description: § 205(d) Rate Filing: Hoosier Wind Notice of Non-Material Change in Status and MBR Tariff Revision to be effective 3/25/2018.

Filed Date: 1/23/18.

Accession Number: 20180123-5143.

Comments Due: 5 p.m. ET 2/13/18.

Docket Numbers: ER18-703-000.

Applicants: Wapsipinicon Wind Project, LLC.

Description: § 205(d) Rate Filing: Wapsipinicon Notice of Non-Material Change in Status and MBR Tariff Revision to be effective 3/25/2018.

Filed Date: 1/23/18.

Accession Number: 20180123-5150.

Comments Due: 5 p.m. ET 2/13/18.

Docket Numbers: ER18-704-000.

Applicants: ISO New England Inc.

Description: ISO New England Inc.—Resource Termination for Portion of Capacity Supply Obligation of Blue Sky West LLC.

Filed Date: 1/23/18.

Accession Number: 20180123-5158.

Comments Due: 5 p.m. ET 2/13/18.

Docket Numbers: ER18-705-000.

Applicants: PJM Interconnection, L.L.C.

Description: § 205(d) Rate Filing: Original WMPA SA No. 4903; Queue No. AC1-012 to be effective 8/4/2017.

Filed Date: 1/24/18.

Accession Number: 20180124-5047.

Comments Due: 5 p.m. ET 2/14/18.

Docket Numbers: ER18-706-.000

Applicants: Mid-Atlantic Interstate Transmission, LLC, American Transmission Systems, Incorporated, PJM Interconnection, L.L.C.

Description: § 205(d) Rate Filing: MAIT et al submits ECSA, Service Agreement Nos. 4797, 4806, and 4859 to be effective 3/26/2018.

Filed Date: 1/24/18.

Accession Number: 20180124-5064.

Comments Due: 5 p.m. ET 2/14/18.

Docket Numbers: ER18-707-000.

Applicants: AL Sandersville, LLC.

Description: § 205(d) Rate Filing: Revised MBR Tariff to be effective 1/25/2018.

Filed Date: 1/24/18.

Accession Number: 20180124-5086.

Comments Due: 5 p.m. ET 2/14/18.

Docket Numbers: ER18-708-000.

Applicants: Effingham County Power, LLC.

Description: § 205(d) Rate Filing: Revised MBR Tariff to be effective 1/25/2018.

Filed Date: 1/24/18.

Accession Number: 20180124-5091.

Comments Due: 5 p.m. ET 2/14/18.

Docket Numbers: ER18-709-000.

Applicants: Mid-Georgia Cogen L.P.

Description: § 205(d) Rate Filing: Revised MBR Tariff to be effective 1/25/2018.

Filed Date: 1/24/18.

Accession Number: 20180124-5097.

Comments Due: 5 p.m. ET 2/14/18.

Docket Numbers: ER18-710-000.

Applicants: MPC Generating, LLC.

Description: § 205(d) Rate Filing: Revised MBR Tariff to be effective 1/25/2018.

Filed Date: 1/24/18.

Accession Number: 20180124-5107.

Comments Due: 5 p.m. ET 2/14/18.

Docket Numbers: ER18-711-000.

Applicants: Walton County Power, LLC.

Description: § 205(d) Rate Filing: Revised MBR Tariff to be effective 1/25/2018.

Filed Date: 1/24/18.

Accession Number: 20180124-5110.

Comments Due: 5 p.m. ET 2/14/18.

Docket Numbers: ER18-712-000.

Applicants: Washington County Power, LLC.

Description: § 205(d) Rate Filing: Revised MBR Tariff to be effective 1/25/2018.

Filed Date: 1/24/18.

Accession Number: 20180124-5115.

Comments Due: 5 p.m. ET 2/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2018.
Nathaniel J. Davis, Sr.,
Deputy Secretary.

[FR Doc. 2018-01698 Filed 1-29-18; 8:45 am]

BILLING CODE 6717-01-P